DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Gates County, North Carolina and Incorporated Areas
Docket No.: FEMA-B-7792
Acorn Hill Millpond | Approximately 0.5 mile downstream of U.S. Highway 158 | +20 | Unincorporated Areas of Gates County.
| Approximately 1.0 mile upstream of the confluence with Acorn Hill Millpond Tributary 1 | +32
Beaverdam Creek | Approximately 0.8 mile downstream of confluence of Beaverdam Creek Tributary 1 | +12 | Unincorporated Areas of Gates County.
| Approximately 1.4 miles upstream of Saunders Road (State Road 1208) | +44
Beaverdam Creek Tributary 1 | At the confluence with Beaverdam Creek | +19 | Unincorporated Areas of Gates County.
| Approximately 500 feet downstream of Saunders Road (State Road 1208) | +24
Beaverdam Creek Tributary 2 | At the confluence with Beaverdam Creek | +28 | Unincorporated Areas of Gates County.
| Approximately 0.7 mile upstream of the confluence with Beaverdam Creek | +34
Beaverdam Creek Tributary 3 | At the confluence with Beaverdam Creek | +31 | Unincorporated Areas of Gates County.
| Approximately 0.9 mile upstream of the confluence of Beaverdam Creek | +38
Bennetts Creek | Approximately 3.0 miles upstream of the confluence with Chowan River | +7 | Unincorporated Areas of Gates County, Town of Gatesville.
| At the confluence of Harrell Swamp and Raynor Swamp | +19
Bennetts Creek Tributary 1 | At the confluence with Bennetts Creek | +7 | Unincorporated Areas of Gates County.
| Approximately 1.5 miles upstream of the confluence with Bennetts Creek Tributary 1A | +12
Bennetts Creek Tributary 10 | At the confluence with Bennetts Creek | +19 | Unincorporated Areas of Gates County.
| Approximately 0.6 mile upstream of Gatlin Road (State Road 1407) | +37
Bennetts Creek Tributary 1A | At the confluence with Bennetts Creek Tributary 1 | +7 | Unincorporated Areas of Gates County.
| Approximately 1.2 miles upstream of the confluence with Bennetts Creek Tributary 1A1 | +16
Bennetts Creek Tributary 1A1 | At the confluence with Bennetts Creek Tributary 1A | +7 | Unincorporated Areas of Gates County.
| Approximately 60 feet downstream of Hoarce Carter Road (State Road 1106) | +11
Bennetts Creek Tributary 2 | At the confluence with Bennetts Creek | +8 | Unincorporated Areas of Gates County.
| Approximately 1.1 miles upstream of the confluence with Bennetts Creek | +12
Bennetts Creek Tributary 3 | At the confluence with Bennetts Creek | +12 | Unincorporated Areas of Gates County.
| Approximately 0.7 mile upstream of the confluence with Bennetts Creek | +36
Bennetts Creek Tributary 4 | At the confluence with Bennetts Creek | +12 | Unincorporated Areas of Gates County.
| Approximately 1.3 miles upstream of U.S. Highway 158 | +24
Bennetts Creek Tributary 4A | At the confluence with Bennetts Creek Tributary 4 | +12 | Unincorporated Areas of Gates County.
| Approximately 180 feet upstream of U.S. Highway 158 | +31
Bennetts Creek Tributary 4B | At the confluence with Bennetts Creek Tributary 4 | +12 | Unincorporated Areas of Gates County.
| Approximately 1,750 feet upstream of the confluence with Bennetts Creek Tributary 4 | +15
Bennetts Creek Tributary 5 | At the confluence with Bennetts Creek | +12 | Unincorporated Areas of Gates County.
| Approximately 0.5 mile upstream of Silver Spring Road (State Road 1404) | +31
Bennetts Creek Tributary 5A | At the confluence with Bennetts Creek Tributary 5 | +12 | Unincorporated Areas of Gates County.
| Approximately 0.8 mile upstream of the confluence with Bennetts Creek Tributary 5 | +30
Bennetts Creek Tributary 6 | At the confluence with Bennetts Creek | +13 | Unincorporated Areas of Gates County.
| Approximately 75 feet downstream of U.S. Highway 158 | +33
Bennetts Creek Tributary 7 | At the confluence with Bennetts Creek | +15 | Unincorporated Areas of Gates County.
| Approximately 900 feet upstream of Silver Spring Road (State Road 1404) | +20
Bennetts Creek Tributary 8 | At the confluence with Bennetts Creek | +15 | Unincorporated Areas of Gates County.
| Approximately 650 feet downstream of Silver Spring Road (Sate Road 1404) | +21
Bennetts Creek Tributary 9 | At the confluence with Bennetts Creek | +15 | Unincorporated Areas of Gates County.
| Approximately 600 feet upstream of Gatlin Road (State Road 1407) | +23
Blackwater River | At the confluence with Chowan River | +13 | Unincorporated Areas of Gates County.
| Approximately 0.6 mile upstream of the confluence with Chowan River | +13
Buckland Mill Branch | At the confluence with Cole Creek And Hackley Swamp | +23 | Unincorporated Areas of Gates County.
| Approximately 1,600 feet upstream of Gates Bank Road (State Road 1302) | +39
Buckland Mill Branch Tributary 1 | At the confluence with Buckland Mill Branch | +28 | Unincorporated Areas of Gates County.
| Approximately 0.6 mile upstream of Willeytown Road (State Road 1304) | +31
Buckland Mill Branch Tributary 2 | At the confluence with Buckland Mill Branch | +29 | Unincorporated Areas of Gates County.
| Approximately 0.4 mile upstream of the confluence with Buckland Mill Branch | +40
Chowan River | Approximately 0.5 mile upstream of the confluence with Chowan River Tributary 1 | +7 | Unincorporated Areas of Gates County, Town of Gatesville.
| At the confluence of Blackwater River and Nottoway River | +13
Cole Creek | At the confluence with Sarem Creek | +7 | Unincorporated Areas of Gates County.
| At the confluence of Buckland Mill Branch and Hackley Swamp | +23
Cole Creek Tributary 1 | At the confluence with Cole Creek | +7 | Unincorporated Areas of Gates County.
| Approximately 0.8 mile upstream of Turner Road (State Road 1114) | +25
Cole Creek Tributary 2 | At the confluence with Cole Creek | +8 | Unincorporated Areas of Gates County.
| Approximately 780 feet upstream of U.S. Highway Business 158 | +30
Cole Creek Tributary 3 | At the confluence with Cole Creek | +9 | Unincorporated Areas of Gates County.
| Approximately 0.8 mile upstream of the confluence with Cole Creek | +17
Cole Creek Tributary 4 | At the confluence with Cole Creek | +11 | Unincorporated Areas of Gates County.
| Approximately 0.6 mile upstream of the confluence with Cole Creek | +16
Cole Creek Tributary 5 | At the confluence with Cole Creek | +12 | Unincorporated Areas of Gates County.
| Approximately 550 feet upstream of U.S. Highway 158 | +33
Cole Creek Tributary 6 | At the confluence with Cole Creek | +18 | Unincorporated Areas of Gates County.
| Approximately 375 feet downstream of Cotton Gin Road (State Road 1315) | +24
Corapeake Swamp | Approximately 500 feet downstream of Daniels Road (State Road 1332) | +22 | Unincorporated Areas of Gates County.
| At the confluence of Corapeake Swamp Tributary 1 | +33
Corapeake Swamp Tributary 1 | At the confluence with Corapeake Swamp | +33 | Unincorporated Areas of Gates County.
| Approximately 0.9 mile upstream of the confluence with Corapeake Swamp | +35
Cypress Swamp | Just upstream of NC Highway 137 | +16 | Unincorporated Areas of Gates County.
| Approximately 0.6 mile upstream of NC Highway 137 | +16
Duke Swamp | At the confluence with Harrell Swamp | +21 | Unincorporated Areas of Gates County.
| Approximately 1.5 miles upstream of the confluence with Duke Swamp Tributary 5 | +47
Duke Swamp Tributary 1 | At the confluence with Duke Swamp | +23 | Unincorporated Areas of Gates County.
| Approximately 0.6 mile upstream of the confluence with Duke Swamp | +33
Duke Swamp Tributary 2 | At the confluence with Duke Swamp | +24 | Unincorporated Areas of Gates County.
| Approximately 240 feet downstream of NC Highway 32 | +37
Duke Swamp Tributary 3 | At the confluence with Duke Swamp | +25 | Unincorporated Areas of Gates County.
| Approximately 0.8 mile upstream of the confluence with Duke Swamp | +28
Duke Swamp Tributary 4 | At the confluence with Duke Swamp | +27 | Unincorporated Areas of Gates County.
| Approximately 0.8 mile upstream of Union Branch Road (State Road 1305) | +31
Duke Swamp Tributary 5 | At the confluence with Duke Swamp | +37 | Unincorporated Areas of Gates County.
| Approximately 1,000 feet upstream of Drum Hill Road (State Road 1308) | +49
Ellis Swamp | At the confluence with Jady Branch | +22 | Unincorporated Areas of Gates County.
| Approximately 300 feet upstream of Corner High Road (State Road 1126) | +22
Ellis Swamp Tributary 1 | At the confluence with Ellis Swamp | +22 | Unincorporated Areas of Gates County.
| Approximately 1.3 miles upstream of the confluence with Ellis Swamp | +24
Flat Branch | At the confluence with Hackley Swamp | +24 | Unincorporated Areas of Gates County.
| Approximately 150 feet downstream of U.S. Highway 13 | +34
Folly Swamp | Approximately 1.5 miles downstream of NC Highway 32 | +26 | Unincorporated Areas of Gates County.
| Approximately 1.9 miles upstream of the confluence with Folly Swamp Tributary 1 | +38
Folly Swamp Tributary 1 | At the confluence with Folly Swamp | +31 | Unincorporated Areas of Gates County.
| Approximately 1,750 feet upstream of Maryland Lane | +38
Goodman Swamp | At the confluence with Duke Swamp | +31 | Unincorporated Areas of Gates County.
| Approximately 1.3 miles upstream of the confluence of Goodman Swamp Tributary 2 | +47
Goodman Swamp Tributary 1 | At the confluence with Goodman Swamp | +34 | Unincorporated Areas of Gates County.
| Approximately 0.7 mile upstream of Union Branch Road (State Road 1305) | +41
Goodman Swamp Tributary 2 | At the confluence with Goodman Swamp | +36 | Unincorporated Areas of Gates County.
| Approximately 1.0 mile upstream of Union Branch Road (State Road 1305) | +48
Goose Creek | Approximately 0.7 mile downstream of Folly Road (State Road 1002) | +25 | Unincorporated Areas of Gates County.
| Approximately 1.3 miles upstream of the confluence of Goose Creek Tributary 1 | +36
Goose Creek Tributary 1 | At the confluence with Goose Creek | +33 | Unincorporated Areas of Gates County.
| Approximately 0.9 mile upstream of the confluence with Goose Creek | +40
Gum Branch | Approximately 500 feet upstream of the confluence with Jady Branch | +11 | Unincorporated Areas of Gates County.
| Approximately 0.8 mile upstream of Taylor Mill Road (State Road 1118) | +24
Hackley Swamp | At the confluence with Cole Creek and Buckland Mill Branch | +23 | Unincorporated Areas of Gates County.
| Approximately 0.8 mile upstream of Gates School Road (State Road 1202) | +39
Hackley Swamp Tributary 1 | At the confluence with Hackley Swamp | +26 | Unincorporated Areas of Gates County.
| Approximately 0.5 mile upstream of Sarem Road (State Road 1219) | +33
Harrell Swamp | At the confluence with Bennetts Creek and Raynor Swamp | +19 | Unincorporated Areas of Gates County.
| Approximately 0.8 mile upstream of the confluence of Duke Swamp | +25
Jady Branch | Just upstream of NC Highway 137 | +19 | Unincorporated Areas of Gates County.
| Approximately 0.5 mile upstream of Hill Lane Road (State Road 1122) | +24
Jernigan Branch | At the confluence with Somerton Creek | +12 | Unincorporated Areas of Gates County.
| Approximately 3.1 miles upstream of Gatlington Road (State Road 1302) | +31
Licking Branch | At the confluence with Jady Branch | +19 | Unincorporated Areas of Gates County.
| Approximately 0.5 mile upstream of Hill Lane Road (State Road 1122) | +26
Middle Swamp | At the confluence with Duke Swamp | +27 | Unincorporated Areas of Gates County.
| Approximately 0.5 mile upstream of Black Mingle Road (State Road 1312) | +32
Mill Branch | At the confluence with Buckland Mill Branch | +35 | Unincorporated Areas of Gates County.
| Approximately 500 feet upstream of Paige Riddick Road (State Road 1330) | +47
Mill Swamp | Approximately 2.0 miles downstream of U.S. Highway 13 | +28 | Unincorporated Areas of Gates County.
| Approximately 400 feet upstream of Drum Hill Road (State Road 1308) | +48
Mill Swamp Tributary 1 | At the North Carolina/Virginia boundary | +25 | Unincorporated Areas of Gates County.
| Approximately 0.5 mile upstream of North Carolina/Virginia boundary | +39
Mill Swamp Tributary 2 | At the confluence with Mill Swamp | +40 | Unincorporated Areas of Gates County.
| Approximately 1.3 miles upstream of the confluence with Mill Swamp Tributary 2A | +49
Mill Swamp Tributary 2A | At the confluence with Mill Swamp Tributary 2 | +40 | Unincorporated Areas of Gates County.
| Approximately 800 feet downstream of Paige Riddick Road (State Road 1330) | +42
Mill Swamp Tributary 3 | At the confluence with Mill Swamp | +41 | Unincorporated Areas of Gates County.
| Approximately 950 feet upstream of Mallory Buck Road (State Road 1309) | +52
Perquimans River | Approximately 0.7 mile downstream of the Gates/Perquimans County boundary | +11 | Unincorporated Areas of Gates County.
| Approximately 390 feet upstream of the Gates/Perquimans County boundary | +11
Raynor Swamp | At the confluence with Bennetts Creek and Harrell Swamp | +19 | Unincorporated Areas of Gates County.
| Approximately 0.4 mile upstream of the confluence with Raynor Swamp Tributary 6 | +39
Raynor Swamp Tributary 1 | At the confluence with Raynor Swamp | +19 | Unincorporated Areas of Gates County.
| Approximately 0.6 mile upstream of Silver Spring Lane (State Road 1404) | +36
Raynor Swamp Tributary 2 | At the confluence with Raynor Swamp | +24 | Unincorporated Areas of Gates County.
| Approximately 865 feet upstream of St. Paul Road (State Road 1338) | +35
Raynor Swamp Tributary 2A | At the confluence with Raynor Swamp Tributary 2 | +28 | Unincorporated Areas of Gates County.
| Approximately 1.1 miles upstream of the confluence with Raynor Swamp Tributary 2 | +38
Raynor Swamp Tributary 3 | At the confluence with Raynor Swamp | +27 | Unincorporated Areas of Gates County.
| Approximately 0.7 mile upstream of Sugar Run Road (State Road 1429) | +36
Raynor Swamp Tributary 4 | At the confluence with Raynor Swamp | +28 | Unincorporated Areas of Gates County.
| Approximately 0.7 mile upstream of the confluence with Raynor Swamp | +31
Raynor Swamp Tributary 5 | At the confluence with Raynor Swamp | +31 | Unincorporated Areas of Gates County.
| Approximately 1,360 feet upstream of Kees Cross Road (State Road 1427) | +35
Raynor Swamp Tributary 6 | At the confluence with Raynor Swamp | +37 | Unincorporated Areas of Gates County.
| Approximately 0.5 mile upstream of the confluence with Raynor Swamp | +41
Sarem Creek | At the confluence with Chowan River | +7 | Unincorporated Areas of Gates County.
| At the confluence with Jady Branch | +10
Somerton Creek | At the confluence with Chowan River | +12 | Unincorporated Areas of Gates County.
| Approximately 1.8 miles upstream of the confluence of Jernigan Branch | +12
Taylor Mill Pond | At the confluence with Jady Branch | +22 | Unincorporated Areas of Gates County.
| Approximately 50 feet downstream of Hill Lane Road (State Road 1122) | +22
Taylor Swamp | At the confluence with Corapeake Swamp | +29 | Unincorporated Areas of Gates County.
| Approximately 1,130 feet upstream of Brinkley Road (State Road 1307) | +39
Taylor Swamp Tributary 1 | At the confluence with Taylor Swamp | +30 | Unincorporated Areas of Gates County.
| Approximately 1.0 mile upstream of the confluence with Taylor Swamp | +34
Trotman Creek | Approximately 350 feet downstream of Carters Road (State Road 1100) | +7 | Unincorporated Areas of Gates County.
| Approximately 0.5 mile upstream of Hobbsville Road (State Road 1414) | +33
Trotman Creek Tributary | At the confluence with Trotman Creek | +10 | Unincorporated Areas of Gates County.
| Approximately 0.4 mile upstream from the confluence with Trotman Creek | +13
Walton Pond | At the confluence with Trotman Creek | +8 | Unincorporated Areas of Gates County.
| Approximately 0.8 mile upstream of NC Highway 37 | +22
* National Geodetic Vertical Datum.
+ North American Vertical Datum.
# Depth in feet above ground.
ADDRESSES
Town of Gatesville
Maps are available for inspection at Gatesville Town Hall, 127 Main Street, Gatesville, North Carolina.
Unincorporated Areas of Gates County
Maps are available for inspection at Gates County Building Inspection Office, 105 New Ferry Road, Gatesville, North Carolina.
Summit County, Ohio, and Incorporated Areas
FEMA Docket No.: B-7773
Brandywine Creek | Approximately 2,700 feet above confluence with Cuyahoga River | +649 | Unincorporated Areas of Summit County, City of Macedonia, Village of Boston Heights, Village of Hudson.
| Approximately 100 feet upstream Ashley Drive | +1093
Brandywine Creek Tributary | Approximately 500 feet downstream of Prospect Street | +1033 | Village of Hudson.
| Approximately 900 feet upstream of Ravenna Street | +1070
Brandywine Creek Tributary 5 | At confluence with Brandywine Creek | +965 | City of Macedonia.
| Approximately 2,200 feet above confluence with Brandywine Creek | +969
Brandywine Creek Tributary Overflow | Approximately 450 feet above Boston Mills Road | +1025 | Village of Hudson.
| Approximately 100 feet downstream from divergence from Brandywine Creek Tributary | +1053
Indian Creek | At confluence with Brandywine Creek | +959 | Unincorporated Areas of Summit County, City of Macedonia
| Approximately 3,700 feet upstream of Ledge Road | +1031
Indian Creek Tributary 3 | At confluence with Indian Creek | +1010 | City of Macedonia.
| Approximately 1,700 feet upstream of Ledge Road | +1016
Indian Creek Tributary 4 | Mouth at Indian Creek | +977 | City of Macedonia.
| Approximately 760 feet upstream of Bedford Road | +986
Mud Brook | At mouth at Cuyahoga River | +748 | City of Akron, City of Cuyahoga Falls, City of Stow, Village of Hudson.
| Approximately 3,400 feet upstream of Streetsboro Road | +999
Mud Brook Tributary 1 | At confluence with Mud Brook | +985 | City of Stow.
| Approximately 2,480 feet upstream of Hudson Street | +988
Mud Brook Tributary 1B | At confluence with Mud Brook Tributary 1 | +986 | Village of Silver Lake, City of Stow.
| Approximately 100 feet upstream of Carter Lumber Drive | +999
Mud Brook Tributary 3 | Approximately 1,300 feet downstream of Allen Road | +991 | City of Stow.
| Approximately 700 feet upstream of Allen Road | +1006
North Fork Yellow Creek | Just downstream of Granger Road | +913 | Unincorporated Areas of Summit County.
| Approximately 75 feet upstream of Bath Road | +951
North Fork Yellow Creek Tributary | Approximately 100 feet above confluence with North Fork Yellow Creek | +923 | Unincorporated Areas of Summit County.
| Approximately 100 feet upstream of Bath Road | +977
Powers Brook | Approximately 100 feet downstream of Railroad | +1001 | Village of Hudson, City of Stow.
| Approximately 100 feet upstream of Norton Road | +1074
Powers Brook Tributary 2 | At confluence with Powers Brook | +1051 | City of Stow.
| Approximately 1,120 feet upstream of Stow Road | +1058
Yellow Creek | Approximately 550 feet downstream of Riverview Road | +735 | Unincorporated Areas of Summit County, City of Akron, City of Cuyahoga Falls.
| Approximately 50 feet upstream of Medina Line Road | +1066
Yellow Creek Overflow | Approximately 70 feet above confluence with Yellow Creek | +1039 | Unincorporated Areas of Summit County.
| Approximately 1,600 feet above confluence with Yellow Creek | +1050
* National Geodetic Vertical Datum.
+ North American Vertical Datum.
# Depth in feet above ground.
ADDRESSES
City of Akron
Maps are available for inspection at 166 South High Street, Suite 100, Akron, OH 44308.
City of Cuyahoga Falls
Maps are available for inspection at 2310 Second Street, Cuyahoga Falls, OH 44221.
City of Macedonia
Maps are available for inspection at 9691 Valley View Road, Macedonia, OH 44056.
City of Stow
Maps are available for inspection at 3760 Darrow Road, Stow, OH 44224.
Unincorporated Areas of Summit County
Maps are available for inspection at 1030 East Tallmadge Avenue, Akron, OH 44310.
Village of Boston Heights
Maps are available for inspection at 5595 Transportation Boulevard, Suite 100, Hudson, OH 44236.
Village of Hudson
Maps are available for inspection at 27 East Main Street, Hudson, OH 44236.
Village of Silver Lake
Maps are available for inspection at 2961 Kent Road, Silver Lake, OH 44224.
Comanche County, Oklahoma, and Incorporated Areas
FEMA Docket No.: B-7753
East Branch Wolf Creek | Approximately 3435 feet downstream from intersection with Cache Road | +1121 | Unincorporated Areas of Comanche County, City of Lawton.
| Approximately 145 feet downstream from intersection with Interstate 62 | +1142
East Cache Creek | Approximately 1390 feet downstream from intersection with SE Coombs Rd | +1060 | Unincorporated Areas of Comanche County, City of Lawton.
| Approximately 2930 feet downstream from confluence with Wratton Creek | +1090
East Cache Creek Tributary A | At confluence with East Cache Tributary A-1 | +1076 | City of Lawton.
| Approximately 2190 feet upstream from intersection with Flower Mound Rd | +1133
East Cache Creek Tributary B | Approximately 5275 feet upstream from confluence with East Cache Creek | +1077 | City of Lawton.
| Approximately 4090 feet upstream from intersection with Flower Mound Rd | +1112
Meadowbrook Creek | Approximately 137 feet downstream from intersection Meadow Brook Dr | +1124 | City of Lawton.
| Approximately 2230 feet upstream from intersection with Northwest Creek Hollar Dr | +1170
Mission Creek | Approximately 6088 feet downstream from intersection with Lawrie Tatum Rd | +1090 | City of Lawton.
| Approximately 110 feet upstream from intersection with Interstate 62 | +1134
Nine Mile Creek Tributary | Approximately 170 feet upstream from intersection with Highway 7 | +1131 | Unincorporated Areas of Comanche County, City of Lawton.
| Approximately 2665 feet downstream from intersection with NE Cache Rd | +1171
Squaw Creek | Approximately 127 feet upstream from intersection with Highway 44 | +1072 | Unincorporated Areas of Comanche County, City of Lawton
| Approximately 1015 feet downstream from intersection with NW Denver Avenue | +1161
Squaw Creek East Tributary B | Approximately at the intersection of Avenue I and 11 Street | +1099 | City of Lawton.
| Approximately 220 feet downstream from intersection with Dearborn Avenue | +1134
West Branch Squaw Creek | Approximately 245 feet downstream from intersection with Arbuckle Avenue | +1078 | Unincorporated Areas of Comanche County, City of Lawton.
| Approximately 1743 upstream from confluence with West Branch Squaw Creek Tributary 4 | +1107
West Branch Wolf Creek | Approximately 710 feet downstream from intersection with 53rd Street | +1119 | Unincorporated Areas of Comanche County, City of Lawton.
| Approximately 255 feet downstream from intersection with NW Roger Lane | +1226
West Branch Wolf Creek Tributary A | Approximately 1092 feet upstream from confluence with West Branch Wolf Creek | +1128 | City of Lawton.
| At the intersection with Cache Rd | +1178
West Branch Wolf Creek Tributary B | Approximately 5750 feet upstream from confluence with West Branch Wolf Creek | +1180 | City of Lawton.
| Approximately 144 feet downstream from intersection with NW Rogers Lane | +1265
Wolf Creek | Approximately 887 feet downstream from intersection with Highway 44 | +1058 | Unincorporated Areas of Comanche County, City of Lawton.
| Approximately 1050 feet downstream from intersection with Lee Boulevard | +1094
Wratton Creek | Approximately 411 feet downstream from intersection with Wratton Creek Tributary | +1102 | Unincorporated Areas of Comanche County, City of Lawton.
| Approximately 5447 feet upstream from intersection with Flower Mound Rd | +1122
Wratton Creek Tributary | At the intersection with Flower Mound Rd | +1111 | City of Lawton.
| Approximately 9175 feet upstream from intersection with Flower Mound Rd | +1143
* National Geodetic Vertical Datum.
+ North American Vertical Datum.
# Depth in feet above ground.
ADDRESSES
City of Lawton
Maps are available for inspection at City Hall, 103 Southwest 4th Street, Lawton, OK 73501.
Unincorporated Areas of Comanche County
Maps are available for inspection at Comanche County. Court House, 315 SW., 5th Street, Lawton, OK 73501.

(Catalog of Federal Domestic Assistance No. 97.022, “Flood Insurance.”)

Dated: February 6, 2009.
Michael K. Buckley,
Acting Assistant Administrator, Mitigation Directorate, Department of Homeland Security, Federal Emergency Management Agency.

[FR Doc. E9-6680 Filed 3-24-09; 8:45 am]

BILLING CODE 9110-12-P